DEPARTMENT OF ENERGY

Federal Energy Regulatory Commission

[Project No. 14229-000]

Goat Lake Hydro, Inc.; Notice of Preliminary Permit Application Accepted for Filing and Soliciting Comments, Motions To Intervene, and Competing Applications

On July 15, 2011, Goat Lake Hydro, Inc. filed an application for a preliminary permit, pursuant to section 4(f) of the Federal Power Act (FPA), proposing to study the feasibility of the Connelly Lake Hydropower Project (Connelly Lake Project) to be located on Connelly Lake, and an unknown tributary of the Chilkoot River, Haines Borough, Alaska. The sole purpose of a preliminary permit, if issued, is to grant the permit holder priority to file a license application during the permit term. A preliminary permit does not authorize the permit holder to perform any land-disturbing activities or otherwise enter upon lands or waters owned by others without the owners' express permission.

The project will consist of the existing 90-acre Connelly Lake and the following proposed new facilities: (1) A 60-foot-high rock-filled dam proposed to be constructed at the outlet of Connelly Lake which would raise Connelly Lake from elevation 2,280 feet to 2,325 feet mean sea level and increase the surface area from 90 acres to170 acres; (2) an intake to be constructed on the left abutment of the dam; (3) a spillway (either an ungated weir on the right abutment of the dam, or a shaft spillway on the left abutment); (4) a 42-inch-diameter, 5,700-foot-long, above-ground penstock extending from the outlet of the intake tunnel to the powerhouse on the west bank of the Chilkoot River; (5) a 40-foot-long, 60-foot-wide powerhouse to contain two turbine/generating units with a total installed capacity of 12 megawatts, with a hydraulic capacity of 90 cubic feet per second, and an average hydraulic head of 2,120 feet; (6) an excavated, riprap-lined channel tailrace extending about 50 feet from the powerhouse to the Chilkoot River; (7) a 14-mile-long, 34.5-kilovolt transmission line proposed to interconnect with a local, existing utility transmission line; and (8) appurtenant facilities. The estimated annual generation of the Connelly Lake Project would be 45 gigawatt-hours.

Applicant Contact: Mr. Robert S. Grimm, CEO/President, Goat Lake Hydro, Inc., c/o Alaska Power & Telephone Company, P.O. Box 3222, Port Townsend, WA 98368. phone: (360) 385-1733 ex. 120.

FERC Contact: Kim Nguyen; phone: (202) 502-6105, or kim.nguyen@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14229-000) in the docket number field to access the document. For assistance, contact FERC Online Support.

Dated: November 2, 2011.
Kimberly D. Bose,
Secretary.

[FR Doc. 2011-28992 Filed 11-8-11; 8:45 am]

BILLING CODE 6717-01-P